DEPARTMENT OF HEALTH AND HUMAN SERVICES

Centers for Disease Control and Prevention

[30Day-24-24BJ]

Agency Forms Undergoing Paperwork Reduction Act Review

In accordance with the Paperwork Reduction Act of 1995, the Centers for Disease Control and Prevention (CDC) has submitted the information collection request titled “CDC-RFA-DP-23-0002 Healthy Schools Program Evaluation” to the Office of Management and Budget (OMB) for review and approval. CDC previously published a “Proposed Data Collection Submitted for Public Comment and Recommendations” notice on December 11, 2023 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC-RFA-DP-23-0002 Healthy Schools Program Evaluation—New—National Center for Chronic Disease Prevention and Health Promotion (NCCDPHP), Centers for Disease Control and Prevention (CDC).

Background and Brief Description

The proposed project aims to evaluate processes and outcomes of the programs of 20 state entities funded by CDC's Division of Adolescent and School Health to improve health, academic achievement, and well-being of students in K-12 schools nationwide. CDC awarded funds through cooperative agreement DP23-0002 (2302 Program) to 20 funding recipients (states, universities, and a tribal nation) to improve health, academic achievement, and well-being of students in K-12 schools. A portion of the funding within each state is allocated to one priority local education agency (LEA) and its corresponding schools to support the implementation of policies, practices, and programs to increase physical activity, healthy dietary behaviors, and management of chronic health conditions among students. CDC is conducting a mixed-methods multi-level evaluation of the 2302 Program and associated outcomes. Evaluation findings will allow CDC to help recipients improve their programs as they progress over the five-year funding period. A CDC evaluation contractor will collect information from relevant funded recipients, priority LEAs, schools, and students. Program monitoring information will be collected from recipients via a monthly reporting tool. Descriptions of the implementation of the program's two strategies and nine activities will be collected in years two and four via semi-structured, virtual key informant interviews with program leaders among funded recipients and priority LEA school health personnel to understand successes, barriers, and lessons learned. Additionally, two electronic questionnaires will be administered annually, starting in year two of the program. One of the questionnaires is for school-level leaders in participating schools in the 20 priority LEAs focusing on implementation of healthy school policies, practices, and programs. The other questionnaire is for students in elementary, middle, and high schools (Grades 4-12) in the priority LEA's schools focusing on physical activity, dietary behaviors, management of chronic health conditions, and wellbeing and academic attainment. The evaluation results will help recipients improve their programs and aid CDC in understanding and communicating the impact of its funding.

CDC requests OMB approval for an estimated 6,900 annual burden hours. There are no costs to respondents other than their time to participate.

Estimated Annualized Burden Hours
Type of respondents | Form name | Number of respondents | Number of responses per respondent | Average burden per response (in hours)
Recipient personnel | Recipient Monthly Reporting 2024, 2025, 2026 | 20 | 12 | 30/60
Recipient personnel | Interviews in 2025, 2027 | 40 | 1 | 60/60
Priority LEA personnel | Interviews in 2025, 2027 | 40 | 1 | 60/60
School personnel | Healthy Schools Questionnaire in 2025, 2026, 2027 | 250 | 1 | 30/60
Students | Healthy Students Questionnaire in 2025, 2026, 2027 | 13,150 | 1 | 30/60

Jeffrey M. Zirger,
Lead, Information Collection Review Office, Office of Public Health Ethics and Regulations, Office of Science, Centers for Disease Control and Prevention.

[FR Doc. 2024-17762 Filed 8-8-24; 8:45 am]

BILLING CODE 4163-18-P